DEPARTMENT OF HOMELAND SECURITY

Federal Emergency Management Agency

[Docket ID FEMA-2016-0002; Internal Agency Docket No. FEMA-B-1633]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

(Catalog of Federal Domestic Assistance No. 97.022, “Flood Insurance.”)

Dated: June 20, 2016.
Roy E. Wright,
Deputy Associate Administrator for Insurance and Mitigation, Department of Homeland Security, Federal Emergency Management Agency.

Idaho: Ada | Unincorporated Areas of Ada County (15-10-1460P) | Commissioner Dave Case, Chairman, Board of Commissioners, Ada County, 200 West Front Street, 3rd Floor, Boise, ID 83702 | Ada County Courthouse, 200 West Front Street, Boise, ID 83702 | http://www.msc.fema.gov/lomc | Mar. 9, 2016 | 160001
Illinois:
Douglas | City of Tuscola (16-05-0749P) | The Honorable Daniel J. Kleiss, Mayor, City of Tuscola, 214 North Main Street, Tuscola, IL 61953 | City Hall, 214 North Main Street, Tuscola, IL 61953 | http://www.msc.fema.gov/lomc | Aug. 25, 2016 | 170195
Douglas | Unincorporated Areas of Douglas County (16-05-0749P) | The Honorable Don Munson, Chairman, Douglas County Board, Douglas County Courthouse, P.O. Box 467, Tuscola, IL 61953 | County Courthouse, 401 South Center Street, Tuscola, IL 61953 | http://www.msc.fema.gov/lomc | Aug. 25, 2016 | 170194
Peoria | City of Peoria (15-05-6957P) | The Honorable Jim Ardis, Mayor, City of Peoria, 419 Fulton Street, Suite 401, Peoria, IL 61602 | Public Works Department, 3505 North Dries Lane, Peoria, IL 61604 | http://www.msc.fema.gov/lomc | Sept. 16, 2016 | 170536
Iowa:
Franklin | City of Sheffield (16-07-1093X) | The Honorable Nick Wilson, Mayor, City of Sheffield, City Hall, 110 South 3rd Street, P.O. Box 252, Sheffield, IA 50475 | City Hall, 110 South 3rd Street, Sheffield, IA 50475 | http://www.msc.fema.gov/lomc | Aug. 26, 2016 | 190132
Polk | City of Grimes (15-07-2236P) | The Honorable Thomas Armstrong, Mayor, City of Grimes, City Hall, 101 Northeast Harvey Street, Grimes, IA 50111 | City Hall, 101 North East Harvey Street, Grimes, IA 50111 | http://www.msc.fema.gov/lomc | Aug. 16, 2016 | 190228
Polk | Unincorporated Areas of Polk County (15-07-2236P) | Mr. Tom Hockensmith, Board of Supervisors, Polk County, Polk County Administration Building, 111 Court Avenue, Suite 300, Des Moines, IA 50309 | Polk County Public Works, 5885 North East 14th Street, Des Moines, IA 50313 | http://www.msc.fema.gov/lomc | Aug. 16, 2016 | 190901
Missouri:
St. Louis | City of Chesterfield (16-07-0481P) | The Honorable Bob Nation, Mayor, City of Chesterfield, 690 Chesterfield Parkway West, Chesterfield, MO 63017 | City Hall, 690 Chesterfield Parkway West, Chesterfield, MO 63017 | http://www.msc.fema.gov/lomc | Aug. 19, 2016 | 290896
St. Louis | City of Wildwood (16-07-0481P) | The Honorable Timothy Woerther, Mayor, City of Wildwood, City Hall, 16860 Main Street, Wildwood, MO 63040 | City Hall, 16860 Main Street, Wildwood, MO 63040 | http://www.msc.fema.gov/lomc | Aug. 19, 2016 | 290922
New Jersey: Passaic | Borough of Bloomingdale (16-02-0098P) | The Honorable Jonathan Dunleavy, Mayor, Borough of Bloomingdale, 101 Hamburg Turnpike, Bloomingdale, NJ 07403 | Bloomingdale Borough Hall, 101 Hamburg Turnpike, Bloomingdale, NJ 07403 | http://www.msc.fema.gov/lomc | Aug. 23, 2016 | 345284
Ohio:
Lucas | City of Oregon (16-05-1552P) | The Honorable Michael J. Seferian, Mayor, City of Oregon, 5330 Seaman Road, Oregon, OH 43616 | City Hall, 5330 Seaman Road, Oregon, OH 43616 | http://www.msc.fema.gov/lomc | Sep. 13, 2016 | 390361
Tuscarawas | Village of Zoar (16-05-2633P) | The Honorable Scott Gordon, Mayor, Village of Zoar, 250 North Main Street, P.O. Box 544, Zoar, OH 44697 | County Administrative Offices, 125 East High Avenue, New Philadelphia, OH 44663 | http://www.msc.fema.gov/lomc | Sep. 9, 2016 | 390752
Warren | Unincorporated Areas of Warren County (15-05-6683P) | The Honorable Pat South, Chairperson, Warren County Board of County Commissioners, 406 Justice Drive, 1st Floor, Lebanon, OH 45036 | Warren County Administration Building, 406 Justice Drive, Room 167, Lebanon, OH 45036 | http://www.msc.fema.gov/lomc | Aug. 29, 2016 | 390757
Oregon:
Jackson | City of Central Point (16-10-0502P) | The Honorable Hank Williams, Mayor, City of Central Point, 140 South 3rd Street, Central Point, OR 97502 | City of Central Point, 140 South 3rd Street, Central Point, OR 97502 | http://www.msc.fema.gov/lomc | Sep. 14, 2016 | 410092
Jackson | Unincorporated Areas of Jackson County (16-10-0502P) | Mr. Don Skundrick, Jackson County Commissioner, 10 South Oakdale Avenue, Room 100, Medford, OR 97501 | Jackson County Roads, Parks and Planning Services, 10 South Oakdale Avenue, Medford, OR 97501 | http://www.msc.fema.gov/lomc | Sep. 14, 2016 | 415589
Texas:
Dallas | City of Grand Prairie (16-06-1079P) | The Honorable Ron Jensen, Mayor, City of Grand Prairie, 317 West College Street, P.O. Box 534045, Grand Prairie, TX 75053 | City Development Center, 206 West Church Street, Grand Prairie, TX 75050 | http://www.msc.fema.gov/lomc | Sep. 12, 2016 | 485472
Dallas | City of Irving (16-06-1079P) | The Honorable Beth Van Duyne, Mayor, City of Irving, 825 West Irving Boulevard, Irving, TX 75060 | Public Works Department, 825 West Irving Boulevard, Irving, TX 75060 | http://www.msc.fema.gov/lomc | Sep. 12, 2016 | 480180
Washington: Spokane | Unincorporated Areas of Spokane County (16-10-0312P) | The Honorable Nancy McLaughlin, County Commissioner, Spokane County, Spokane County Courthouse, 1116 West Broadway Avenue, Spokane, WA 99260 | Public Works Building, 1026 West Broadway Avenue, Spokane, WA 99260 | http://www.msc.fema.gov/lomc | Aug. 26, 2016 | 530174
Wisconsin:
Dane | City of Madison (16-05-1781P) | The Honorable Paul R. Soglin, Mayor, City of Madison, Mayor's Office, 210 Martin Luther King Jr. Boulevard, Room 403, Madison, WI 53703 | City Hall, 210 Martin Luther King Jr. Boulevard, Room 403, Madison, WI 53703 | http://www.msc.fema.gov/lomc | Sep. 14, 2016 | 550083
Dane | Unincorporated Areas of Dane County (16-05-1781P) | The Honorable Joe Parisi, Dane County Executive, City-County Building, 210 Martin Luther King Jr. Boulevard, Room 421, Madison, WI 53703 | City-County Building, 210 Martin Luther King Jr. Boulevard, Room 116, Madison, WI 53703 | http://www.msc.fema.gov/lomc | Sep. 14, 2016 | 550077
Milwaukee | City of Milwaukee (16-05-0269P) | The Honorable Tom Barrett, Mayor, City of Milwaukee, 200 East Wells Street, Room 201, Milwaukee, WI 53202 | City Hall, 200 East Wells Street, Milwaukee, WI 53202 | http://www.msc.fema.gov/lomc | Sep. 23, 2016 | 550278
Milwaukee | City of Oak Creek (16-05-0269P) | The Honorable Stephen Scaffidi, Mayor, City of Oak Creek, 8040 South 6th Street, Oak Creek, WI 53154 | City Hall, 8640 South Howell Avenue, Oak Creek, WI 53154 | http://www.msc.fema.gov/lomc | Sep. 23, 2016 | 550279

[FR Doc. 2016-17730 Filed 7-26-16; 8:45 am]

BILLING CODE 9110-12-P